DEPARTMENT OF TRANSPORTATION

Federal Highway Administration

Notice of Final Federal Agency Actions on Proposed Highway in California

AGENCY: Federal Highway Administration (FHWA), DOT.

ACTION: Notice of Limitation on Claims for Judicial Review of Actions by FHWA, the U.S. Army Corps of Engineers, and the U.S. Fish and Wildlife Service.

SUMMARY: The FHWA is issuing this notice to announce actions taken by FHWA, the U.S. Army Corps of Engineers, and the U.S. Fish and Wildlife Service that are final within the meaning of applicable law. The FHWA is issuing this notice to announce to the public that FHWA, as NEPA lead agency, has prepared and approved (May 26, 2017) a Final Environmental Assessment (EA) with a Finding of No Significant Impact (FONSI) and Section 4(f) Evaluation. The actions relate to a proposed highway project: Widen approximately 12.6 miles of U.S. Highway 395 from two lanes to four lanes from the existing four-lane highway segment just south of the Los Angeles Aqueduct Bridge No. 48-10 at post mile 29.2 north to the four-lane segment at the Ash Creek Bridge No. 48-068R, post mile 41.8, in the County of Inyo, State of California. Those actions grant licenses, permits, and approvals for the project.

DATES: By this notice, the FHWA, is advising the public of final agency actions subject to 23 U.S.C. 139(l)(1). A claim seeking judicial review of the Federal agency actions on the highway project will be barred unless the claim is filed on or before December 18, 2017. If the Federal law that authorizes judicial review of a claim provides a time period of less than 150 days for filing such claim, then that shorter time period still applies.

FOR FURTHER INFORMATION CONTACT:

For FHWA: David Tedrick, Senior Environmental Specialist, Federal Highway Administration, 650 Capitol Mall, Suite 4-100, Sacramento, CA 95814, (916) 498-5014, or email: david.tedrick@dot.gov.

For Caltrans: John Thomas, Associate Environmental Planner, California Department of Transportation, 855 M Street, Suite 200, Fresno, CA 93721, (559) 445-6451, or email: john.q.thomas@dot.ca.gov.

SUPPLEMENTARY INFORMATION: The Final EA/EIR is a joint project by the California Department of Transportation (Caltrans) and the Federal Highway Administration (FHWA) and is subject to state and federal environmental review requirements. FHWA and Caltrans jointly prepared the Final EA/EIR pursuant to the requirements of the National Environmental Policy Act and the California Environmental Quality Act. Caltrans is the lead agency under the CEQA. The Federal Highway Administration is the lead agency under the NEPA.

The project proposes to widen approximately 12.6 miles of U.S. Highway 395 from two lanes to four lanes from the existing four-lane highway segment just south of the Los Angeles Aqueduct Bridge No. 48-10 at post mile 29.2 north to the four-lane segment at the Ash Creek Bridge No. 48-068R, post mile 41.8, in the County of Inyo, State of California. The actions by the Federal agencies, and the laws under which such actions were taken, are described in the Final Environmental Assessment (FEA) for the project, approved on May 26, 2017, in the FHWA Finding of No Significant Impacts (FONSI), also issued on May 26 2017, and in other documents in the FHWA project records. The FEA, FONSI, and other project records are available by contacting FHWA, at the address provided above. The FHWA FEA and FONSI can be viewed and downloaded from the project Web site at: http://www.dot.ca.gov/d9/projects/olancha/index.html.

The U.S. Army Corps of Engineers decision and permit SPL-2009-00965-TS, and the U.S. Fish and Wildlife biological opinion FWS-INY-13B0156-14F0013 are available by contacting FHWA, at the address provided above. This notice applies to all Federal agency decisions as of the issuance date of this notice and all laws under which such actions were taken, including but not limited to:

1. Council on Environmental Quality regulations (40 CFR 1500 et seq.; 23 CFR 771);

2. National Environmental Policy Act (NEPA) (42 U.S.C. 4321-4351 et seq.);

3. Clean Air Act of 1963, as amended (42 U.S.C. 7401 et seq.);

4. Noise Control Act of 1979 (42 U.S.C. 4901 et seq.);

5. FHWA Noise Standards, Policies, and Procedures (23 CFR 772);

6. Department of Transportation Act of 1966, Section 4(f) (49 U.S.C. 303);

7. Clean Water Act of 1977 (33 U.S.C. 1344);

8. Endangered Species Act of 1973 (16 U.S.C. 1531-1543);

9. Migratory Bird Treaty Act (16 U.S.C. 703-712);

10. National Historic Preservation Act of 1966, as amended (54 U.S.C. 306108 et seq.);

11. Executive Order 11990, Protection of Wetlands;

12. Executive Order 11988, Floodplain Management;

13. Executive Order 13112, Invasive Species;

14. Executive Order 12898, Federal Actions to Address Environmental Justice and Low-Income Populations;

15. Title VI of Civil Rights Act 1964 (42 U.S.C. 2000d et seq.), as amended.

(Catalog of Federal Domestic Assistance Program Number 20.205, Highway Planning and Construction. The regulations implementing Executive Order 12372 regarding intergovernmental consultation on Federal programs and activities apply to this program.)

Authority: 23 U.S.C.139(l)(1).

David Tedrick,
Senior Environmental Specialist, Federal Highway Administration, Sacramento, California.

[FR Doc. 2017-15347 Filed 7-20-17; 8:45 am]

BILLING CODE 4910-RY-P